DEPARTMENT OF THE INTERIOR

Bureau of Land Management

[CO-100-1610-DO]

Notice of Intent To Prepare a Resource Management Plan and Associated Environmental Impact Statement for the Little Snake Field Office

AGENCY: Bureau of Land Management; Interior.

ACTION: Notice of intent.

SUMMARY: This document provides notice that the Bureau of Land Management (BLM) intends to prepare an Resource Management Plan (RMP) and associated Environmental Impact Statement (EIS) for the Little Snake Field Office. The planning area is located in Northwest Colorado in Moffat, Routt, and Rio Blanco Counties. The plan will provide a framework to guide subsequent management decisions on approximately 1.3 million acres of BLM-administered public lands and 1.1 million acres of subsurface mineral estate administered by the BLM. Preparation of this RMP and EIS will conform with the Federal Land Policy and Management Act (FLPMA), the National Environmental Policy Act (NEPA), Federal Regulations, and BLM management policies. The BLM will work collaboratively with a broad range of interested parties to identify management decisions that are best suited to local, regional, and national needs and concerns.

DATES: This notice initiates the public scoping process. Comments on the scope of the plan, including issues or concerns that should be considered, should be submitted in writing to the address listed below and will be accepted throughout the creation of the Draft RMP/Draft EIS. All public meetings will be announced through the local news media, newsletters, and the BLM Web site at http://www.co.blm.gov/lsra/rmp.

ADDRESSES: Please mail written comments to the BLM, Little Snake Field Office, 455 Emerson St., Craig, Colorado, 81625 or fax to (970) 826-5002. Comments should be sent to the above address or may be sent by electronic mail (e-mail) to colsrmp@blm.gov. Comments submitted during this planning process, including names and street addresses of respondents will be available for public review at the Little Snake Field Office during regular business hours 7:45 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: For further information or to have your name added to the Little Snake RMP Mailing List, contact Jeremy Casterson at the Little Snake Field Office (see address above), telephone (970) 826-5071.

SUPPLEMENTARY INFORMATION: This document provides notice that the Little Snake Field Office will revise its current RMP. The RMP to be prepared for the public lands administered by the Little Snake Field Office will identify goals, objectives, standards and guidelines for management of a variety of resources and values. The RMP will demonstrate active engagement of the community in a collaborative planning effort. The plan will specify actions, constraints, and general management practices necessary to achieve desired conditions. The scope of the RMP will be comprehensive. Certain existing standards and guidelines and other BLM plans will be incorporated into the RMP, such as the Colorado Rangeland Health Standards and Guidelines, and the Uniform Format for Oil and Gas Lease Stipulations. This notice provides the public an opportunity to suggest issues, concerns, needs, and resource use, development and protection opportunities for consideration in preparation of the plan. A number of decisions related to various resource values and programs will be made as a result of this planning effort. The major issues identified to date include (1) Management of upland vegetation; (2) management of riparian areas and water quality concerns; (3) energy and mineral development; (4) special management areas; (5) recreation management; (6) travel management; (7) cultural resources and paleontology and Native American concerns; (8) management of wildlife, including conservation and recovery of special status species; (9) socio-economic values; and (10) land and realty issues.

In addition to the major issues, a number of management questions and concerns will be addressed in the plan. Issues and management concerns may be identified by interested parties during the scoping phase. After gathering public comments on what issues the plan should address, the suggested issues will be placed in one of three categories:

(1) Issues to be resolved in the plan;

(2) Issues resolved through policy or administrative action; or

(3) Issues beyond the scope of the plan.

BLM will provide feedback to the public on the final issues to be addressed in the plan. An interdisciplinary approach will be used to develop the plan in order to consider the variety of resource issues and concerns identified. Disciplines involved in the planning process will include specialists with expertise in rangeland management, minerals and geology, outdoor recreation, archaeology, wildlife, lands and realty, hydrology, soils, sociology and economics.

The following planning criteria have been proposed to guide the development of the plan, to avoid unnecessary data collection and analyses, and to ensure the plan is tailored to the issues. Other criteria may be identified during the public scoping process. After gathering comments on planning criteria, BLM will finalize the criteria and provide feedback to the public on the criteria to be used throughout the planning process.

• The plans will be completed in compliance with the Federal Land Policy and Management Act (43 U.S.C. 1701 et seg.) and the National Environmental Policy Act (NEPA). Decisions in the plan will strive to be compatible with the existing plans and policies of adjacent local, State and Federal agencies as long as the decisions are in conformance with Federal laws and regulations. The plan will recognize valid existing rights.

• Complete the planning work on time and on budget. Focus the collaborative effort so that the collaborators can see that they make a difference, within a timeframe that is reasonable and achievable.

• Recognize the specific niche that federal lands provide both to the nation and to the surrounding community. A successful plan will be one that is responsive to both national needs and community needs.

• Public participation will be encouraged throughout the process as per the attached Public Participation Plan. Collaborate and build relationships with tribes, state and local governments, federal agencies, local stakeholders and others in the community of interest of the plan as normal business. Collaborators are regularly informed and offered timely and meaningful opportunities to participate in the planning process.

• Road and trail access (and OHV management) guidance will be incorporated into the plan to ensure public and resource needs are met.

• The Energy Policy and Conservation Act (EPCA) inventory results will be integrated into land use planning and energy use authorizations. Environmental protection and energy production are both desirable and necessary objectives of sound land management practices and are not to be considered mutually exclusive priorities;

• For all stipulations developed in new land use plans and to further improve consistency and understanding of lease stipulations, State and Field offices will use the Uniform Format for Oil and Gas Lease Stipulations prepared by the Rocky Mountain Regional Coordinating Committee in March 1989. Lease stipulations will be reviewed for consistency with neighboring field offices and States, and where there are discrepancies, efforts will be undertaken to try and get consistency.

• The lifestyles and concerns of area residents will be recognized in the plan. A socio-economic assessment of the planning area will be prepared to identify, analyze and review the social and economic considerations of the plans.

• The plan will incorporate the Colorado Rangeland Health Standards and Guidelines. It will lay out a strategy for ensuring that proper grazing practices are followed. Grazing will be managed to maintain or improve the health of the public lands by incorporating conditions to enhance resource conditions into permitted operations.

• Contain an adaptive framework that incorporates regular monitoring and evaluation to adjust management within the direction of the existing plan. Included in the range of potential actions for each adaptive management decision, a “fallback” decision will be prepared, which would be expected to achieve the outcome. The plan will have realistic desired conditions and achievable objectives consistent with likely budgets and the design criteria.

• Lands with wilderness characteristics may be managed to protect and/or preserve some or all of those characteristics. This may include protecting certain lands in their natural condition and/or providing opportunities for solitude, or primitive and unconfined types of recreation.

• Identify existing and potential corridors (potential corridors include existing ROW routes that can be considered for additional facilities and thus be considered a corridor if not already so designated); Identify existing and potential ROW development sites such as energy development areas (e.g., wind energy sites) and communication sites; Describe likely development of potential corridors and other ROW sites as a basis for impact assessment.

• The BLM will work cooperatively with interested parties to identify the management decisions that are best suited to local, regional, and national interests. A local citizen-based stewardship group, the Northwest Colorado Stewardship (NWCOS), will engage with the BLM in the RMP revision. NWCOS is an independent community-centered stewardship group that will focus its efforts on a community assessment, developing a community vision for the landscape, and a community alternative.

Dated: September 24, 2004.
John E. Husband,
Field Manager.

[FR Doc. 04-25618 Filed 11-17-04; 8:45 am]

BILLING CODE 4310-GG-P